DEPARTMENT OF HEALTH AND HUMAN SERVICES

Administration for Children and Families

Proposed Information Collection Activity; Generic Clearance for Financial Reports Used for ACF Mandatory Grant Programs (OMB #0970-0510)

AGENCY: Administration for Children and Families, HHS.

ACTION: Request for public comment.

SUMMARY: The Administration for Children and Families (ACF) proposes to extend data collection under the existing overarching generic clearance for Financial Reports used for ACF Mandatory Grant Programs (OMB #0970-0510). There are no changes to the proposed types of information collection or uses of data.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: ACF programs need detailed financial information from recipients that receive federal funds, such as grantees, to monitor various specialized cost categories within each program, to closely manage program activities, and to have sufficient financial information to enable periodic thorough and detailed audits. Information collected through the Federal Financial Report (Standard Form (SF)-425) provides general information, but does not provide program-specific information that is necessary for ACF program office decision making. This generic clearance allows ACF to collect program-specific financial information from mandatory grant programs.

Program offices use the information collected under this generic information collection to:

• Monitor program operations and prepare technical assistance and guidance, as needed.

• Assist in the computation of the grant awards issued to each program's grantees or annual incentive payments (Child Support Enforcement Program only).

• Determine that child support collections are being properly distributed (Child Support Enforcement Program only).

• Produce annual financial and statistical reports as may be required by Congress and respond to periodic detailed inquiries from Congress.

ACF may require an information collection approved under this generic from funding recipients in order to obtain or retain benefits.

Following standard OMB requirements for a generic information collection, ACF will submit a generic information collection request for each individual data collection activity under this generic clearance. Each request will include the individual form(s) and instructions, and a short overview of the proposed purpose and use of the data collected. OMB should review requests within 10 days of submission.

Respondents: ACF-funded mandatory grant programs.

Annual Burden Estimates
Instrument | Number of respondents | Number of responses per respondent | Average burden hours per response | Annual burden hours
Mandatory Grant Financial Reports | 1,000 | 4 | 10 | 40,000
Estimated Total Annual Burden Hours: 40,000.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2020-26636 Filed 12-2-20; 8:45 am]

BILLING CODE 4184-79-P